DEPARTMENT OF THE INTERIOR

Bureau of Land Management

[15X.LLAZ956000.L14400000.BJ0000.LXSSA225000.241A]

Notice of Filing of Plats of Survey; Arizona

AGENCY: Bureau of Land Management, Interior.

ACTION: Notice of filing of plats of survey; Arizona.

SUMMARY: The plats of survey of the described lands were officially filed in the Arizona State Office, Bureau of Land Management, Phoenix, Arizona, on dates indicated.

SUPPLEMENTARY INFORMATION:

The Gila and Salt River Meridian, Arizona

The plat representing the survey and subdivision of certain sections, Township 39 North, Range 9 East, accepted June 11, 2015, and officially filed June 12, 2015, for Group 1136, Arizona.

This plat was prepared at the request of the Bureau of Indian Affairs.

The plat, in two sheets, representing the dependent resurvey, survey and subdivision of certain sections, Township 35 North, Range 14 East, accepted May 1, 2015, and officially filed May 5, 2015, for Group 1128, Arizona.

This plat was prepared at the request of the Bureau of Indian Affairs.

The plat representing the dependent resurvey and subdivision of certain sections, Township 24 North, Range 19 East, accepted May 28, 2015, and officially filed May 29, 2015, for Group 1127, Arizona.

This plat was prepared at the request of the Bureau of Indian Affairs.

The supplemental plat showing amended lotting in section 29, Township 12 North, Range 9 West, accepted May 1, 2015, and officially filed May 6, 2015, for Group 9107, Arizona.

This plat was prepared at the request of the Bureau of Land Management.

The supplemental plat showing amended lotting and revisions to the Table Top Wilderness boundary in section 21, Township 7 South, Range 3 East, accepted May 1, 2015, and officially filed May 6, 2015, for Group 9108, Arizona.

This plat was prepared at the request of the Bureau of Land Management.

The supplemental plat showing amended lotting and revisions to the Table Top Wilderness boundary in section 5, Township 8 South, Range 3 East, accepted May 1, 2015, and officially filed May 6, 2015, for Group 9108, Arizona.

This plat was prepared at the request of the Bureau of Land Management.

The plat representing the dependent resurvey and subdivision of section 23, Township 23 South, Range 20 East, accepted May 13, 2015, and officially filed May 14, 2015, for Group 1112, Arizona.

This plat was prepared at the request of the United States Forest Service.

The plat representing the dependent resurvey of Mineral Survey No. 3550 and Mineral Survey No. 4281, Township 24 South, Ranges 20 and 21 East, accepted May 13, 2015, and officially filed May 14, 2015, for Group 1112.

This plat was prepared at the request of the United States Forest Service.

The plat representing the dependent resurvey and subdivision of sections 31 and 32, Township 23 South, Range 21 East, accepted May 13, 2015, and officially filed May 14, 2015, for Group 1112, Arizona.

This plat was prepared at the request of the United States Forest Service.

The plat representing the dependent resurvey and subdivision of section 5, Township 24 South, Range 21 East, accepted May 13, 2015, and officially filed May 14, 2015, for Group 1112, Arizona.

This plat was prepared at the request of the United States Forest Service.

The plat representing the dependent resurvey and subdivision of section 6, Township 20 South, Range 22 East, accepted June 17, 2015, and officially filed June 18, 2015, for Group 1143, Arizona.

This plat was prepared at the request of the Bureau of Land Management.

The plat representing the dependent resurvey of Homestead Entry Survey No. 234, Township 2 South, Range 31 East, accepted June 17, 2015, and officially filed June 18, 2015, for Group 1139, Arizona.

This plat was prepared at the request of the United States Forest Service.

A person or party who wishes to protest against any of these surveys must file a written protest with the Arizona State Director, Bureau of Land Management, stating that they wish to protest.

A statement of reasons for a protest may be filed with the notice of protest to the State Director, or the statement of reasons must be filed with the State Director within thirty (30) days after the protest is filed.

FOR FURTHER INFORMATION CONTACT: These plats will be available for inspection in the Arizona State Office, Bureau of Land Management, One North Central Avenue, Suite 800, Phoenix, Arizona, 85004-4427. Persons who use a telecommunications device for the deaf (TDD) may call the Federal Information Relay Service (FIRS) at 1-800-877-8339 to contact the above individual during normal business hours. The FIRS is available 24 hours a day, 7 days a week, to leave a message or question with the above individual. You will receive a reply during normal business hours.

Gerald T. Davis,
Chief Cadastral Surveyor of Arizona.

[FR Doc. 2015-16679 Filed 7-7-15; 8:45 am]

BILLING CODE 4310-32-P